DEPARTMENT OF ENERGY

Federal Energy Regulatory Commission

[Project No. 96-048]

Pacific Gas and Electric Company; Notice of Teleconference

a. Project Name and Number: Kerckhoff Hydroelectric Project No. 96.

b. Project Licensee: Pacific Gas and Electric Company (PG&E).

c. Date and Time of Teleconference: Monday, April 19, 2021 from 3:00 p.m. to 4:30 p.m. Eastern Standard Time.

d. FERC Contact: Evan Williams, (202) 502-8462 or Evan.Williams@ferc.gov.

e. Purpose of Meeting: Commission staff will hold a teleconference with PG&E and stakeholders to discuss issues related to, and options for, moving forward with the approved Whitewater Boating Assessment (REC 1), Run 1 and Run 2 Flow Studies.

f. Please call or email Evan Williams at (202) 502-8462 or Evan.Williams@ferc.gov by Thursday, April 15, 2021, to RSVP and to receive the teleconference call-in information.

Dated: March 31, 2021.
Kimberly D. Bose,
Secretary.

[FR Doc. 2021-07073 Filed 4-5-21; 8:45 am]

BILLING CODE 6717-01-P